DEPARTMENT OF JUSTICE

Drug Enforcement Administration

[OMB Number 1117-0013]

Agency Information Collection Activities; Proposed Collection; Comments Requested: Application for Permit To Import Controlled Substances for Domestic and/or Scientific Purposes Pursuant to 21 U.S.C. 952 (DEA Form 357)

ACTION: 30-Day Notice.

The Department of Justice (DOJ), Drug Enforcement Administration (DEA) will be submitting the following information collection request to the Office of Management and Budget (OMB) for review and approval in accordance with the Paperwork Reduction Act of 1995. The proposed information collection is published to obtain comments from the public and affected agencies. This proposed information collection was previously published in the Federal Register Volume 78, Number 154, page 48718 on August 9, 2013, allowing for a 60-day comment period.

The purpose of this notice is to allow for an additional 30 days for public comment until November 22, 2013. This process is conducted in accordance with 5 CFR 1320.10.

Written comments and/or suggestions regarding the items contained in this notice, especially the estimated public burden and associated response time, should be directed to the Office of Management and Budget, Office of Information and Regulatory Affairs, Attention Department of Justice Desk Officer, Washington, DC 20503. The best way to ensure your comments are received is to email them to oira_submission@omb.eop.gov or fax them to (202) 395-7285. Written comments and suggestions from the public and affected agencies concerning the proposed collection of information are encouraged.

Your comments should address one or more of the following four points:

• Evaluate whether the proposed collection of information is necessary for the proper performance of the functions of the agency, including whether the information will have practical utility;

• Evaluate the accuracy of the agencies estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Overview of Information Collection 1117-0013

(1) Type of Information Collection: Extension of a currently approved collection.

(2) Title of the Form/Collection: Application for Permit to Import Controlled Substances for Domestic and/or Scientific Purposes pursuant to 21 U.S.C. 952 (DEA Form 357).

(3) Agency form number, if any, and the applicable component of the Department sponsoring the collection: Form number: DEA Form 357, Office of Diversion Control, Drug Enforcement Administration, Department of Justice.

(4) Affected public who will be asked or required to respond, as well as a brief abstract:

Primary: Business or other for-profit.

Other: None.

Abstract: Title 21, Code of Federal Regulations, Section 1312.11 requires any registrant who desires to import certain controlled substances into the United States to have an import permit. In order to obtain the permit, an application must be made to the Drug Enforcement Administration on DEA Form 357.

(5) An estimate of the total number of respondents and the amount of time estimated for an average respondent to respond: It is estimated that 136 persons complete an estimated 1,265 DEA Form 357s at 15 minutes per form.

(6) An estimate of the total public burden (in hours) associated with the collection: It is estimated that there are 316 annual burden hours associated with this collection.

If additional information is required contact: Jerri Murray, Department Clearance Officer, Policy and Planning Staff, Justice Management Division, Department of Justice, Two Constitution Square, 145 N Street NE., Room 3W-1407B, Washington, DC 20530.

Dated: October 17, 2013.
Jerri Murray,
Department Clearance Officer for PRA, United States Department of Justice.

[FR Doc. 2013-24751 Filed 10-22-13; 8:45 am]

BILLING CODE 4410-09-P